DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by April 25, 2003.

Title, Form Number, and OMB Number: DoD Education Loan Repayment Program; DD Form 2475; OMB Number 0704-0152.

Type of Request: Revision of a currently approved collection.

Number of Respondents: 31,000.

Responses per Respondent: 1.

Annual Responses: 31,000.

Average Burden per Response: 10 minutes (average).

Annual Burden Hours: 5,167 hours.

Needs and Uses: Military services are authorized to repay Federal student loans for individuals who meet certain criteria who enlist for active military service or enter the Selected Reserves for a specified obligation period. The DD Form 2475 collects the necessary verification data from the lending institutions.

Affected Public: Business or other for-profit.

Frequency: Annually.

Respondent's Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: March 19, 2003.
Patricia L. Toppings,
Alternate OSD Federal Register, Liaison Officer, Department of Defense.

[FR Doc. 03-7091 Filed 3-25-03; 8:45 am]

BILLING CODE 5001-08-M